FEDERAL COMMUNICATIONS COMMISSION

47 CFR Part 73

[DA 03-2038; MM Docket No. 02-382; RM-10615]

Radio Broadcasting Services; Bridgeton, Pennsauken, NJ

AGENCY: Federal Communications Commission.

ACTION: Final rule; correction.

SUMMARY: This document corrects the amendatory language to a final rule published in the Federal Register of July 15, 2003, regarding Radio Broadcasting Services in Bridgeton and Pennsauken, New Jersey. The amendatory language stated the wrong channel number for the community of Bridgeton. This document corrects the channel number for the community of Bridgeton.

DATES: Effective August 7, 2003.

FOR FURTHER INFORMATION CONTACT: Victoria M. McCauley, Media Bureau, (202) 418-2180.

Correction

In final rule FR Doc. 03-17832, published July 15, 2003 (68 FR 41724), make the following correction.

On page 41724, in the third column of § 73.202(b), correct the amendatory language to read as follows:

2. Section 73.202(b), the Table of FM Allotments under New Jersey, is amended by removing Bridgeton, Channel 299B and by adding Pennsauken, Channel 300A.

Federal Communications Commission.
John A. Karousos,
Assistant Chief, Audio Division, Media Bureau.

[FR Doc. 03-18835 Filed 7-23-03; 8:45 am]

BILLING CODE 6712-01-P